DEPARTMENT OF JUSTICE

Notice of Lodging of Proposed Consent Decree Under the Comprehensive Environmental Response, Compensation, and Liability Act (“CERCLA”)

On October 26, 2017, the Department of Justice lodged a proposed Consent Decree with the United States District Court for the Central District of California, Western Division, in the lawsuit entitled United States of America v. Cooper Living Trust and Cooper Properties, LP. Civil Action No. 2:17-cv-7836.

The United States filed this lawsuit under Sections 106(a) and 107 of the Comprehensive Environmental Response, Compensation, and Liability Act (“CERCLA”), 42 U.S.C. 9606(a) and 9607, against the Cooper Living Trust and Cooper Properties, LP (Settling Defendants), for recovery of response costs incurred by the United States and to address environmental contamination at the Cooper Drum Company Superfund Site located in Los Angeles County, California (“the Site”).

The Settling Defendants both owned a portion of the Site at the time of disposal of hazardous substances by the Cooper Drum Company, which operated a drum reconditioning business at the Site. The reconditioning process resulted in contamination of the soil and groundwater beneath the Site.

Under the Consent Decree the Settling Defendants agree to complete the sale of property adjacent to the Site (the Property) and pay the United States the greater of 90 percent of the net sales proceeds or $2.5 million. In return, the United States agrees not to sue the Defendants under Sections 106 and 107 of CERCLA.

The publication of this notice opens a period for public comment on the Consent Decree. Comments should be addressed to the Assistant Attorney General, Environment and Natural Resources Division, and should refer to United States of America v. Cooper Living Trust and Cooper Properties, LP, D.J. Ref. No. 90-11-2-09084/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.50 (25 cents per page reproduction cost × 38 pages) payable to the United States Treasury.

Henry S. Friedman,
Assistant Section Chief, Environmental Enforcement Section, Environment and Natural Resources Division.

[FR Doc. 2017-23835 Filed 11-1-17; 8:45 am]

BILLING CODE 4410-15-P